DEPARTMENT OF AGRICULTURE

Submission for OMB Review; Comment Request;

The Department of Agriculture has submitted the following information collection requirement(s) to OMB for review and clearance under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques and other forms of information technology.

Comments regarding this information collection received by February 10, 2025 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Forest Service

Title: Bid for Advertised Timber.

OMB Control Number: 0596-0066.

Summary of Collection: This information collection is necessary to implement the various statutes, regulations, and policies designed to ensure that: (1) National Forest System timber is sold at not less than appraised value; (2) bidders meet specific criteria when submitting a bid; and 3) anti-trust violations do not occur during the bidding process.

Individuals, large and small businesses, and corporations wishing to purchase timber or forest products from national forests must enter into a timber sale or forest product contract with the Forest Service. Several statutes, regulations, and policies impose requirements on the Government and purchasers involved in the bidding process. The Uniform Commercial Code (UCC), although not binding upon the Federal Government, is a useful tool in determining the rights and liabilities of the contacting parties in the contract formation process.

Need and Use of the Information: There are six versions of bid forms divided into three categories. The same information is requested within each category, with minor differences in how respondents display the bid. The Forest Service decides on the form used for a sale or contract prior to advertising. A variety of factors affects the decision, including size, complexity, value and length of the contract. Respondents must use the form identified/provided by the Forest Service and cannot submit a response in a different format. This collection is required for the private sector to be considered for the benefit of National Forest System timber under various contract forms. To be considered for award of these contracts, bid forms must be submitted.

Description of Respondents: Business or other for-profit; Individuals or households;

Number of Respondents: 1,824.

Frequency of Responses: Reporting: On occasion.

Total Burden Hours: 118,018.

Levi S. Harrell,
Departmental Information Collection Clearance Officer.

[FR Doc. 2025-00373 Filed 1-8-25; 8:45 am]

BILLING CODE 3411-15-P